ENVIRONMENTAL PROTECTION AGENCY

40 CFR Part 300

[EPA-HQ-SFUND-1983-0002; FRL-9920-32-Region-5]

National Oil and Hazardous Substance Pollution Contingency Plan; National Priorities List: Deletion of the Belvidere Municipal Landfill Superfund Site

AGENCY: U.S. Environmental Protection Agency.

ACTION: Direct final rule.

SUMMARY: The U.S. Environmental Protection Agency (EPA) Region 5 is publishing a direct final Notice of Deletion of the Belvidere Municipal Landfill Superfund Site (Site), located in Belvidere, Illinois, from the National Priorities List (NPL). The NPL, promulgated pursuant to section 105 of the Comprehensive Environmental Response, Compensation, and Liability Act (CERCLA) of 1980, as amended, is appendix B to the National Oil and Hazardous Substances Pollution Contingency Plan (NCP). This direct final deletion is being published by EPA with the concurrence of the State of Illinois, through the Illinois Environmental Protection Agency (IEPA), because EPA has determined that all appropriate response actions under CERCLA, other than operation, maintenance, and five-year reviews, have been completed. However, this deletion does not preclude future actions under Superfund.

DATES: This direct final deletion is effective February 9, 2015 unless EPA receives adverse comments by January 12, 2015. If adverse comments are received, EPA will publish a timely withdrawal of the direct final deletion in the Federal Register informing the public that the deletion will not take effect.

ADDRESSES: Submit your comments, identified by Docket ID no. EPA-HQ-SFUND-1983-0002, by one of the following methods:

• http://www.regulations.gov: Follow on-line instructions for submitting comments.

• Email: Thomas Smith, Remedial Project Manager, at smith.thomasl@epa.gov or Janet Pope, Community Involvement Coordinator, at pope.janet@epa.gov.

• Fax: Gladys Beard at (312) 886-4071.

• Mail: Thomas Smith, Remedial Project Manager, U.S. Environmental Protection Agency (SR-6J), 77 W. Jackson, Chicago, IL 60604, (312) 886-6540 or Janet Pope, Community Involvement Coordinator, U.S. Environmental Protection Agency (SI-7J), 77 W. Jackson, Chicago, IL 60604, (312) 353-0628 or 1-800-621-8431.

• Hand delivery: Janet Pope, Community Involvement Coordinator, U.S. Environmental Protection Agency (SI-7J), 77 W. Jackson Boulevard, Chicago, IL 60604. Such deliveries are only accepted during the docket's normal hours of operation, and special arrangements should be made for deliveries of boxed information.

Instructions: Direct your comments to Docket ID no. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

• U.S. Environmental Protection Agency, Region 5, 77 W. Jackson Blvd., Chicago, IL 60604, Phone: (312) 353-1063, Hours: Monday through Friday, 8:30 a.m. to 4:30 p.m. CST, excluding Federal holidays.

• Ida Public Library, 320 N. State St., Belvidere, IL 61008, Phone: (815) 544-3838, Hours: Monday through Friday 9:00 a.m. to 8:00 p.m. CST, and Saturday 9:00 a.m. to 6:00 p.m. CST.

FOR FURTHER INFORMATION CONTACT: Thomas Smith, Remedial Project Manager, U.S. Environmental Protection Agency, Region 5, SR-6J, 77 W. Jackson, Chicago, IL 60604, (312) 886-6540, smith.thomasl@epa.gov.

SUPPLEMENTARY INFORMATION:

Table of Contents

I. Introduction

II. NPL Deletion Criteria

III. Deletion Procedures

IV. Basis for Site Deletion

V. Deletion Action

I. Introduction

EPA is publishing this direct final Notice of Deletion of the Belvidere Municipal Landfill Site (Site) from the NPL and requests comments on this proposed action. The NPL constitutes Appendix B of 40 CFR part 300, which is the Oil and Hazardous Substances Pollution Contingency Plan (NCP), which EPA promulgated pursuant to section 105 of CERCLA, as amended. EPA maintains the NPL as the list of sites that appear to present a significant risk to public health, welfare, or the environment. Sites on the NPL may be the subject of Remedial Actions (RAs) financed by the Hazardous Substance Superfund (Fund). As described in 300.425(e) (3) of the NCP, sites deleted from the NPL remain eligible for Fund-financed RAs if future conditions warrant such actions.

Because EPA considers this action to be noncontroversial and routine, this action will be effective February 9, 2015 unless EPA receives adverse comments by January 12, 2015. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of RAs where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the State of Illinois prior to developing this direct final Notice of Deletion and the Notice of Intent to Delete co-published today in the “Proposed Rules” section of the Federal Register.

(2) EPA has provided the State 30 working days for review of this notice and the parallel Notice of Intent to Delete prior to their publication today, and the State, through IEPA, has concurred on the deletion of the Site from the NPL.

(3) Concurrently with the publication of this direct final Notice of Deletion, a notice of the availability of the parallel Notice of Intent to Delete is being published in a major local newspaper, The Rockford Register Star News- Dispatch. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Belvidere Municipal Landfill Site from the NPL. A Final Close-Out Report was completed on February 06, 2014, which concluded that the Site achieved the degree of cleanup or protection specified in the ROD(s) for all pathways of exposure. All selected remedial and removal actions, remedial action objectives (RAOs), and associated cleanup goals are consistent with Agency policy and guidance. No further Superfund response is needed to protect human health and the environment.

Site Background and History

Site Location

The EPA ID# for the Site is ILD980497663. It is located on the west side of the City of Belvidere (City), Illinois, and occupies approximately 19 acres of a 139-acre site. The Record of Decision (ROD) and Consent Decree (CD) describe the Site as including all 139 acres, because the contaminated groundwater was discovered in the area between the landfill and the river. The former landfill, situated on property owned by the Boone County Conservation District (BCCD), is bordered by the Kishwaukee River to the west, Spencer Park to the south, a gravel pit to the north, and Appleton Road to the east. Two flooded and abandoned sand and gravel pits are located on the east side of the former landfill facility and are referred to as the West Pond and the East Pond. The only residential development in the area is a small trailer park approximately one mile west of the Site. The former drum disposal area is located immediately northwest of the former landfill. Portions of the Site are located within the 100-year flood plain of the Kishwaukee River.

Site History

The Site was owned and operated by the City from 1939 to 1965 as a municipal landfill. They disposed of waste in an old gravel pit. From 1965 to 1973, the City retained ownership while private contractors operated the landfill. In 1970's, inspection reports by IEPA personnel indicated that special wastes and some hazardous waste had been disposed of in the unpermitted landfill. The landfill was covered with sandy soil from an on-site borrow pit and soil remaining from highway construction. In 1976, the BCCD purchased the property to develop an experimental prairie and recreational area.

In 1979, the IEPA compliant landfill cover was installed over the Site and then vegetated with native prairie plants. However, in 1981, a hydrogeological investigation by IEPA found that the final cover remained inadequate in some areas and that leachate posed a threat to surface and ground water. The Site was proposed to EPA's National Priorities List (NPL) (47 FR 58476) in 1982 and listed in September 1993 (48 FR 40658).

Remedial Investigation and Feasibility Study (RI/FS)

Between 1984 and 1988, IEPA conducted a Remedial Investigation/Feasibility Study (RI/FS) at the Site. The results of the RI determined that there was low-level contamination in the pond and river sediments, and higher levels of contamination in the groundwater and surface soils. About 100 full or partially full drums were discovered in an area immediately west of the landfill. Due to the potential hazards associated with the drums, EPA disposed of the drums off-site in December of 1986.

EPA release the Proposed Plan for public comment in May of 1988. The EPA communicated to the public that remedial action was necessary to mitigate risks associated with Polychlorinated Biphenyls (PCBs) and semi-volatile organic compounds (SVOCs) contaminated soils and groundwater.

Record of Decision Findings

EPA signed a Record of Decision (ROD) on June 29, 1988. The ROD documented EPA's decision to clean up the Site. The remedy included a RCRA Subtitle C landfill cap; plume barrier groundwater extraction system (PBGES); removal of PCB-contaminated soil from the drum disposal area; deed restrictions; flood protection; site fencing; and monitoring. The RAOs include: (1) Minimizing risk to public health and the environment from direct contact with contaminated material; (2) controlling the migration of contaminated material to surface waters; (3) controlling migration of leachate to groundwater via infiltration; and (4) minimizing potential risk to public health from future consumption of contaminated groundwater.

Response Actions

Soil samples from the Remedial Design (RD) indicated that PCB concentrations in the drum disposal area were less than 50 ppm with only one sample containing more than 10 ppm. EPA excavated contaminated soil to a depth of one foot in and around the former drum disposal area, installed monitoring wells, a flood protection berm, an access road and a security fence around the landfill. Excavated soil was consolidated on the Site and covered with a six-foot RCRA Subtitle C landfill cap, which consisted of a leveling layer, low permeability layer, drainage layer, vegetative cover, and a gas venting system. EPA constructed a Plume Barrier Groundwater Extraction System (PBGES) down-gradient of the landfill to intercept groundwater between the landfill and the Kishwaukee River. It operated from 1991 to 1995 and consisted of a 1,200 foot long linear array of 40 extraction wells, a single suction pumping system, and a force main connection to the City sanitary sewer system. A restrictive covenant was recorded for the Site in 1991. The construction of the RA was officially completed May 29, 1992, and EPA issued a Preliminary Close-Out Report on June 6, 1992.

Cleanup Goals

Confirmatory sampling verified that the ROD cleanup objective for removal of PCB-contaminated soil and landfill consolidation has been met. The landfill cap material is in compliance with RCRA Subtitle C landfill closure requirements. These actions eliminate the direct contact risk to human health and the environment. The exposure to contaminated groundwater has been eliminated by past operation of the PBGES and the monitoring well data demonstrates groundwater containment verifying the protection of the Kishwaukee River and the downgradient aquifer. In 2011, the IEPA and the IDNR collected sediment, water, and fish samples from Deeppitt Pond. In April, 2013, IDNR reported that the sediment, water, and fish tissue results were below health based standards. Based on that data, BCCD now allows fishing in the Deeppit Pond. The Site remedy is protective of human health and the environment across all pathways of exposure because the Site meets the current protectiveness standards for groundwater and institutional controls are in place that restrict land and groundwater uses.

Operation and Maintenance (O&M)

The City is responsible for O&M activities. The PBGES was shut off in May 1995 because all target compound criteria were satisfied for three consecutive sampling events at compliance wells, however, the City will maintain the system until the Site is deleted from the NPL. The City is responsible to ensure groundwater use remains prohibited and that the Kishwaukee River is adequately protected. Ongoing sampling indicates no contamination in the river. The primary activities associated with O&M for the final cover system include: Routine landscape and monitoring equipment maintenance, security and access control, cover integrity surveys, and air monitoring.

Institutional Controls

A Restrictive Covenant Agreement was recorded in February 1991 to insure the integrity of the RA. The restrictions “runs with the land” and include prohibition of groundwater use and construction activities on the clay cap. The BCCD maintains ownership of the Site for use as a park and conservation purposes. In addition, Belvidere City Ordinance Code, Section 114-160 (1997) prohibits the construction, alteration, rebuilding, or restoration of private wells within city limits.

Five-Year Review

EPA has conducted four statutory five-year reviews (FYRs) under Section 121(c) of the CERCLA (1995, 2000, 2005, and 2010). The purpose of a statutory FYR is to evaluate whether a completed RA remains protective of human health and the environment at sites where hazardous waste remains on-site at levels that do not allow for unlimited use and unrestricted exposure. EPA concluded that all the RAs are in place and protective. The next FYR will be conducted in 2015.

Community Involvement

Public participation activities have been satisfied as required in CERCLA section 113(k), 42 U.S.C. 9613(k), and CERCLA section 117, 42 U.S.C. 9617. Documents in the deletion docket which EPA relied on for recommendation of the deletion of this Site from the NPL are available to the public in the information repositories, and at www.regulations.gov.

Determination That the Site Meets the Criteria for Deletion in the NCP

The NCP (40 CFR 300.425(e)) states that sites may be deleted from the NPL when no further response action is appropriate. EPA, in consultation with the State of Illinois, has determined that the responsible parties have implemented all response actions required.

V. Deletion Action

EPA, with concurrence of the State of Illinois through IEPA, has determined that all appropriate response actions under CERCLA, other than maintenance, monitoring, and five-year reviews have been completed. Therefore, EPA is deleting the Site from the NPL.

Because EPA considers this action to be noncontroversial and routine, EPA is taking it without prior publication. This action will be effective February 9, 2015 unless EPA receives adverse comments by January 12, 2015. If adverse comments are received within the 30-day public comment period, EPA will publish a timely withdrawal of this direct final notice of deletion before the effective date of the deletion, and it will not take effect. EPA will prepare a response to comments and continue with the deletion process on the basis of the Notice of Intent to Delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: November 24, 2014.
Susan Hedman,
Regional Administrator, Region 5.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B—[Amended]

2. Table 1 of Appendix B to part 300 is amended by removing “Belvidere Municipal Landfill”, “City of Belvidere, IL”.

[FR Doc. 2014-29032 Filed 12-10-14; 8:45 am]

BILLING CODE 6560-50-P